DEPARTMENT OF THE TREASURY

Submission for OMB Review; Comment Request

October 24, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before November 29, 2006 to be assured of consideration.

Internal Revenue Service (IRS)

OMB Number: 1545-1695.

Type of Review: Extension.

Title: Revenue Ruling 2000-33, Deferred Compensation Plans of State and Local Governments and Tax-Exempt Organizations.

Description: This revenue ruling specifies the conditions the plan sponsor should meet to automatically defer a certain percentage of its employees' compensation into their accounts in an eligible deferred compensation plan.

Respondents: State, Local, or Tribal Governments.

Estimated Total Burden Hours: 500 hours.

OMB Number: 1545-1222.

Type of Review: Extension.

Title: Form 8635, Federal Income Tax Products Order Blank; and Form 9383, Fax Order Blank for BPOL Reorders.

Form: 8635, 9383.

Description: Form 8635 serves as an order blank for participants of the BPOL Program. It collects information from banks, post offices and libraries detailing the quantities and types of tax forms and related materials that they will distribute to taxpayers during the tax-filing season. The fax sheet (Form 9383) allows participants to order products via fax.

Respondents: Businesses and other for-profit institutions.

Estimated Total Burden Hours: 3,669 hours.

OMB Number: 1545-2019.

Title: REG-161919-05 (TEMP) and REG-134317-05 (NPRM) Removing Impediments to E-Filing.

Type of Review: Extension.

Description: These regulations eliminate certain impediments in the income tax regulations to mandatory e-filing of U.S. Federal income tax returns by large corporations. These regulations require corporations to attach statements to their returns in order to make the election, or otherwise claim the treatment, allowed by that regulation. These regulations further require the taxpayer to sign the statement. This signature requirement is as impediment to e-filing. This document provides for temporary regulations that eliminate this requirement. These temporary regulations also simplify and clarify the reporting requirements.

Respondents: Businesses and other for-profit institutions.

Estimated Total Burden Hours: 262,500 hours.

OMB Number: 1545-1276.

Title: FI-88-86 (Final) Real Estate Mortgage Investment Conduits (TD 8458).

Type of Review: Extension.

Description: Section 860E(e) imposes an excise tax on the transfer of a residual interest in a REMIC to a disqualified party. The tax must be paid by the transferor of a pass-thru entity of which the disqualified party is an interest holder.

Respondents: Businesses and other for-profit institutions.

Estimated Total Burden Hours: 525 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E6-18161 Filed 10-27-06; 8:45 am]

BILLING CODE 4830-01-P